DEPARTMENT OF COMMERCE

National Oceanic and Atmospheric Administration

RIN 0648-XA925

Endangered Species; File No. 16194

AGENCY: National Marine Fisheries Service (NMFS), National Oceanic and Atmospheric Administration (NOAA), Commerce.

ACTION: Issuance of permit.

SUMMARY: Notice is hereby given that the NMFS Southeast Fisheries Science Center (SEFSC) [Dr. Bonnie Ponwith, Responsible Party], 75 Virginia Beach Drive, Miami, FL 33149, has been issued a permit to take green (Chelonia mydas), hawksbill (Eretmochelys imbricata), loggerhead (Caretta caretta), Kemp's ridley (Lepidochelys kempii), olive ridley (Lepidochelys olivacea), leatherback (Dermochelys coriacea), and unidentified hardshell sea turtles for the purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and Southeast Region, NMFS, 263 13th Ave. South, St. Petersburg, FL 33701; phone (727) 824-5312; fax (727) 824-5309.

FOR FURTHER INFORMATION CONTACT: Colette Cairns or Amy Hapeman, (301) 427-8401.

SUPPLEMENTARY INFORMATION: On August 9, 2011, notice was published in the Federal Register (76 FR 48806) that a request for a scientific research permit to take green, loggerhead, hawksbill, leatherback, Kemp's ridley, olive ridley, and unidentified hardshell sea turtles had been submitted by the above-named organization. The requested permit has been issued under the authority of the Endangered Species Act of 1973, as amended (ESA; 16 U.S.C. 1531 et seq.) and the regulations governing the taking, importing, and exporting of endangered and threatened species (50 CFR parts 222-226).

The five-year permit authorizes the SEFSC to conduct research on green, loggerhead, hawksbill, leatherback, Kemp's ridley, olive ridley, and unidentified hardshell sea turtles captured under another authority during SEFSC resource assessment cruises. SEFSC personnel are authorized to handle, photograph, measure, weigh, flipper and passive integrated transponder tag, and tissue sample live sea turtles, and salvage specimens from dead sea turtles. The research will take place in the Atlantic Ocean, the Gulf of Mexico, the Caribbean Sea, and their embayments and estuaries. This research would aid in the development and refinement of management efforts to recover these species.

Issuance of this permit, as required by the ESA, was based on a finding that such permit (1) was applied for in good faith, (2) will not operate to the disadvantage of such endangered or threatened species, and (3) is consistent with the purposes and policies set forth in section 2 of the ESA.

Dated: January 6, 2012.
P. Michael Payne,
Chief, Permits and Conservation Division, Office of Protected Resources, National Marine Fisheries Service.

[FR Doc. 2012-397 Filed 1-10-12; 8:45 am]

BILLING CODE 3510-22-P